DEPARTMENT OF AGRICULTURE

Agricultural Marketing Service

[AMS-FV-11-0043; FV11-916/917-6]

Nectarines and Peaches Grown in California; Notice of Withdrawal

AGENCY: Agricultural Marketing Service, USDA.

ACTION: Notice; withdrawal.

SUMMARY: The Agricultural Marketing Service (AMS) is withdrawing the notice soliciting comments on its request for approval to use new forms to collect information related to the Federal marketing orders for nectarines and peaches grown in California (orders). Continuance referenda were conducted among growers of California nectarines and peaches in January and February 2011. Fewer than two-thirds of participating growers, by number and production volume, voted in favor of continuing the nectarine and peach orders. USDA has suspended the quality, inspection, reporting, and assessment requirements under the orders (76 FR 21615), effective April 19, 2011. USDA intends to seek termination of the orders.

DATES: Effective date: May 31, 2011.

FOR FURTHER INFORMATION CONTACT: Andrew Hatch, Supervisory Marketing Specialist, Marketing Order Administration Branch, Fruit and Vegetable Programs, AMS, USDA, 1400 Independence Avenue, SW., STOP 0237, Room 1406-S, Washington, DC 20250-0237; Telephone: (202) 720-6862, Fax: (202) 720-8938, Email: andrew.hatch@ams.usda.gov.

Small businesses may request information on this notice by contacting Antoinette Carter, Marketing Order Administration Branch, Fruit and Vegetable Programs, AMS, USDA, 1400 Independence Avenue, SW., STOP 0237, Room 1406-S, Washington, DC 20250-0237; Telephone (202) 690-3919, Fax: (202) 720-8938, or Email: antoinette.carter@ams.usda.gov.

SUPPLEMENTARY INFORMATION: Marketing Order Nos. 916 and 917, both as amended (7 CFR Parts 916 and 917), regulate the handling of nectarines and peaches grown in California, and are effective under the Agricultural Marketing Agreement Act of 1937, as amended (7 U.S.C. 601-604; “Act”). The Federal programs for nectarines and peaches are administered through a partnership between the U.S. Department of Agriculture (USDA) and the Reedley, CA-based California Tree Fruit Agreement (CTFA). The Nectarine Commodity Committee and the Peach Commodity Committee make up a part of the CTFA.

On February 25, 2011, a notice requesting comments on the use of five new forms to collect information was published in the Federal Register (76 FR 10555) with a comment period ending on April 26, 2011.

Continuance referenda were conducted among growers of California nectarines and peaches in January and February 2011. Fewer than two-thirds of participating growers, by number and production volume, voted in favor of continuing the nectarine and peach orders. USDA has suspended the quality, inspection, reporting, and assessment requirements under the orders (76 FR 21615), effective April 19, 2011. USDA intends to initiate termination of the orders.

Consequently, the forms that were proposed to be used are no longer needed. The Agency has decided not to proceed with the action. Therefore, the notice published on February 25, 2011 (76 FR 10555) is withdrawn.

Dated: May 24, 2011.
Rayne Pegg,
Administrator, Agricultural Marketing Service.

[FR Doc. 2011-13482 Filed 5-27-11; 8:45 am]

BILLING CODE 3410-02-P